NATIONAL AERONAUTICS AND SPACE ADMINISTRATION

[Notice 00-010]

Notice of Prospective Patent License

AGENCY: National Aeronautics and Space Administration.

ACTION: Notice of prospective patent license.

SUMMARY: NASA hereby gives notice that Phoenix Systems International, Inc. of McDonald, OH, has applied for an exclusive patent license in the United States and Asia to practice the invention disclosed in NASA Case No. KSC-11884 entitled “Process and Equipment for Nitrogen Oxide Waste Conversion to Fertilizer,” for which a U.S. Patent Application was filed and assigned to the United States of America as represented by the Administrator of the National Aeronautics and Space Administration. Written objections to the prospective grant of a license should be sent to Melanie R. Chan, Licensing & Dual Use Manager, John F. Kennedy Space Center.

DATES: Responses to this Notice must be received on or before March 27, 2000.

FOR FURTHER INFORMATION CONTACT: Melanie R. Chan, Licensing and Dual Use Manager, John F. Kennedy Space Center, Mail Code: MM-E, Kennedy Space Center, FL 32899, telephone (407) 867-6367.

Dated: January 19, 2000.
Edward A. Frankle,
General Counsel.

[FR Doc. 00-1889 Filed 1-26-00; 8:45 am]

BILLING CODE 7510-01-P